DEPARTMENT OF COMMERCE

National Oceanic and Atmospheric Administration

Notice of Brennan Ocean Mapping Fund Opportunity for Ocean and Coastal Mapping and Request for Partnership Proposals

AGENCY: National Ocean Service, National Oceanic and Atmospheric Administration (NOAA), Department of Commerce.

ACTION: Notice of matching fund opportunity; request for proposals.

SUMMARY: This notice invites non-Federal entities to partner with the ocean and coastal mapping programs of NOAA's National Ocean Service on jointly-funded projects of mutual interest and establishes selection criteria and submission requirements for such projects under the Brennan Ocean Mapping Fund opportunity. With this funding opportunity, NOAA will match selected non-Federal partners at a 70:30/NOAA:partner ratio for projects proposing to contract for ocean, coastal, and/or Great Lakes mapping data totaling up to $1,000,000 per project. Selected non-Federal partners further benefit from this opportunity by leveraging NOAA's contracting and data management expertise. This ocean and coastal mapping funding opportunity is subject to the availability of funds.

DATES: Please note the following dates associated with this opportunity:

• Informational Webinar: Thursday, August 14, 2025, at 1 p.m. Eastern Time (ET): This informational webinar will provide more information about the matching fund opportunity and answer any questions. Advanced registration is required. Register by 11:59 p.m. ET on Thursday, August 14, 2025.

• Virtual office hours: Friday, September 19, 2025, between 10 a.m. and 5 p.m. ET: Advanced registration is required. Register by 11:59 p.m. ET on September 17, 2025.

• Proposal submission and selection timeline:

• Statements of interest or proposals as described in Section VI of SUPPLEMENTARY INFORMATION are due Friday, October 10, 2025, by 5 p.m. ET.

• NOAA plans to issue its decision on the proposals in December 2025. NOAA will then work with selected project partners to develop draft agreements by the end of January 2026.

• Following final agreement approval, project partners will be expected to transfer their matching funds to NOAA in June to September 2026. Funds must be transferred before October 1, 2026.

• NOAA would issue task orders to its survey contractors under these agreements from January to September 2027.

ADDRESSES: For additional information, including a summary of the informational webinar, presentation slides, and questions and answers, visit: https://iocm.noaa.gov/planning/contracts-grants-agreements.html.

• Register for the informational webinar by Thursday, August 14, 2025 at 11:59 p.m. ET at https://forms.gle/BEowFcoMRnkap2Qi9.

• Request a 30-minute time slot during virtual office hours by September 17, 2025 at 11:59 p.m. ET at iwgocm.staff@noaa.gov.

• Proposals must be submitted via email by Friday, October 10, 2025, at 5 p.m. ET to iwgocm.staff@noaa.gov.

FOR FURTHER INFORMATION CONTACT: Meredith Westington, NOAA Integrated Ocean and Coastal Mapping, 505-278-9851, iwgocm.staff@noaa.gov.

SUPPLEMENTARY INFORMATION:

I. Background

NOAA's Office of Coast Survey (OCS) and National Geodetic Survey (NGS) conduct mapping activities that are foundational to maritime commerce, domestic energy and seafood production, tourism and recreation, and hazard mitigation and emergency response, among other interests. NOAA has considerable hydrographic and shoreline mapping contracting expertise, including a cutting-edge understanding of the science and related acoustic systems as well as data standards to ensure broad usability of that data.

The Ocean and Coastal Mapping Integration Act establishes the Interagency Working Group on Ocean and Coastal Mapping (IWG-OCM) and directs NOAA to use the IWG-OCM to “establish and maintain a program to coordinate comprehensive Federal ocean and coastal mapping efforts.” (33 U.S.C. 3501, 3502) NOAA is committed to meeting this mapping requirement as collaboratively as possible and adhering to the Integrated Ocean and Coastal Mapping (IOCM) principle of “Map Once, Use Many Times.” However, the resources needed to fully achieve the goal of comprehensively mapping U.S. waters and coasts currently exceed the capacity of NOAA and its Federal partners. Mapping the full extent of waters subject to U.S. jurisdiction relies on non-Federal partners to contribute to the effort.

The Brennan Ocean Mapping Fund, which was established by statute in 2022 (33 U.S.C. 3504a, 3506), is one way that NOAA seeks to increase the coordinated acquisition, processing, stewardship, and archival of new ocean and coastal mapping data in U.S. waters. NOAA Rear Admiral Richard T. Brennan, former OCS Director and former President of the Hydrographic Society of America, was one of IOCM's strongest advocates. Sadly, Rear Admiral Brennan passed away in May 2021. IOCM continues to implement Rear Admiral Brennan's vision and passion for collaborative ocean mapping through this matching fund opportunity named in his honor.

II. Description

This notice invites non-Federal entities to partner with the ocean and coastal mapping programs of NOAA's National Ocean Service on jointly-funded projects of mutual interest that address the strategic areas of focus noted in section III. These projects will establish ocean, coastal, and Great Lakes survey and mapping partnerships using NOAA's geospatial contracting vehicles with pre-qualified technical experts in surveying and mapping. NOAA will use the selection criteria and submission requirements described below in sections V and VI, respectively, to review project proposals.

The goal of this Brennan Ocean Mapping Fund opportunity is to leverage NOAA and non-Federal partner funds to acquire more ocean and coastal mapping data from qualified contract surveyors during Fiscal Year (FY) 2027, which spans October 1, 2026, to September 30, 2027. Subject to the availability of funds, NOAA will provide up to 70 percent of the total project cost, with the selected entity providing at least 30 percent of the total project cost. For example, for a $1 million project, NOAA would provide up to $700,000, and the partner must provide at least $300,000.

Subject to the availability of funds, NOAA anticipates funding between two and five projects, with a total cost of up to $1 million per project. NOAA may consider providing additional funding for a project, thereby exceeding $1 million, subject to the availability of funds and NOAA's discretion. All projects are expected to have a FY 2027 project start date, and NOAA must receive all non-Federal partner matching funds before October 1, 2026. NOAA reserves the right to increase or decrease its funding match based on the quality and feasibility of proposals received. After NOAA selects a non-Federal entity as a partner, NOAA will enter into an agreement with the partner pursuant to the Coast and Geodetic Survey Act of 1947 (33 U.S.C. 883e), which enables NOAA to receive and expend funds for the mapping project.

In addition to providing matching funds, NOAA brings its expertise to manage survey planning, quality assure all data and products, provide the data and products to the partners within an agreed-upon timeframe, and handle data submission to NOAA's National Centers for Environmental Information for archiving and public accessibility. All ocean and coastal data and related products from the Brennan Ocean Mapping Fund program will be available to the public to the greatest extent allowed by applicable laws. The specific value-added services NOAA will provide include:

• Assurance that the data are collected by qualified survey contractors to ensure broadest use and accessibility of the data;

• Project management and GIS-based task order planning, negotiation, and award of necessary procurement contracts that are tailored to meet the interests of matching fund partners and ensure the most efficient use of mapping platforms (e.g., aerial, shipboard, and uncrewed vehicles). Managing survey compliance with applicable laws, such as the National Environmental Policy Act and National Historic Preservation Act;

• Data processing, quality assessment, and review of all acquired hydrographic data; and

• Data management and stewardship through data archive at the National Centers for Environmental Information.

Data acquisition collection methods include, but are not limited to, multibeam echosounder, side scan sonar, lidar (topographic, bathymetric, mobile), subsurface and airborne feature investigations, and sediment sampling. Products acquired may include, but are not limited to:

• Bathymetric data (multibeam, single beam, lidar);

• Backscatter;

• Water column (depth dependent);

• Side scan sonar imagery;

• Feature detection reports;

• Sensor/data corrections and calibrations (e.g., conductivity, temperature and depth casts, horizontal/vertical position uncertainty);

• Survey and control services, including the installation, operation, and removal of temporary water level and Global Navigation Satellite System Observations;

• High-resolution topographic/bathymetric product generation; and

• A final project report.

More information on NOAA's contracted surveying and mapping processes and products can be found in the:

• OCS Hydrographic Surveys Contract Vehicle at https://nauticalcharts.noaa.gov/data/hydrographic-surveys-contract-vehicle.html.

• NGS Scope of Work for Shoreline Mapping at https://geodesy.noaa.gov/ContractingOpportunities/cmp-sow-v15.pdf.

III. Strategic Areas of Focus

For this opportunity, proposals will be considered that align with national priorities and the goals of the National Strategy for Mapping, Exploring, and Characterizing the United States Exclusive Economic Zone (NOMEC, 2020) and associated Implementation Plan (NOMEC IP, 2024); the Implementation Plan for the Alaska Coastal Mapping Strategy (ACMS IP, 2022); and the OCS Strategic Plan 2023-2027 (all available at: https://iocm.noaa.gov/about/strategic-plans.html). Those goals include:

1. Map U.S. Waters: Mapping U.S. waters deeper than 40m by 2030 and shallower waters by 2040 would give the United States unprecedented and detailed information about the depth, shape, and composition of its seafloor and Great Lakes (NOMEC Goal 2). Based on the January 2025 analysis of data holdings at NOAA's National Centers for Environmental Information, 46 percent of U.S. ocean, coastal, and Great Lakes waters remain unmapped (https://iocm.noaa.gov/seabed-2030-status.html). Acquiring the best available data in poorly surveyed and gap areas means working with partners to contribute to the effort (NOMEC Goal 5).

2. Expand Alaska Coastal Data Collection to Deliver the Priority Geospatial Products Stakeholders Require: Mapping the Alaska coast is challenging. However, using targeted and coordinated data collections will potentially reduce overall costs and improve the cost-benefit ratio of expanded mapping activities (ACMS IP Goal 2).

3. Collaborate to Increase Ocean and Coastal Mapping in U.S. Waters: OCS will partner on integrated ocean and coastal mapping, leverage current and expanded resources, and increase data acquisition using traditional and emerging technologies (OCS Strategic Plan 2023-2027 Goal 1).

The following resources may be used to support project proposals:

• the U.S. Mapping Coordination website, a collaboration site for mapping data acquisition, shows current NOAA mapping plans as well as the latest in Federal mapping priorities and select regional mapping priorities: https://iocm.noaa.gov/maps/USMappingCoordination/;

• the U.S. Bathymetry Coverage and Gap Analysis and associated Bathymetric Coverage Report tool: https://iocm.noaa.gov/seabed-2030-bathymetry.html and https://gis.charttools.noaa.gov/bathy-coverage-report/; and

• the U.S. Interagency Elevation Inventory: https://coast.noaa.gov/inventory/.

More information on NOAA's surveying and mapping contracting vehicles is available at https://iocm.noaa.gov/planning/contracts-grants-agreements.html, along with background information, questions and answers, and presentation slides on this funding opportunity.

IV. Proposal Eligibility

This matching fund opportunity is available to non-Federal entities. Examples of non-Federal entities include State and local governments, Tribal entities, universities, researchers and academia, the private sector, non-governmental organizations (NGOs), and philanthropic partners. Qualifying proposals must demonstrate the ability to provide at least 30 percent of the funds needed for the proposed project. A coalition of non-Federal entities may assemble funds for the match and submit a proposal jointly; however, NOAA will request a central point of contact to initiate the transfer of funds to NOAA. Use of other Federal agency funds as part of the non-Federal entity's or entities' match funds will be considered on a case-by-case basis and only as authorized by applicable laws. In-kind contributions to strengthen the project proposal are welcome; however, they do not count toward the match and are not required.

V. Selection Criteria

Proposals will be evaluated by the Brennan Ocean Mapping Fund Program Management Team. Submissions will be ranked based on the following selection criteria:

1. Project justification (30 points)—This criterion ascertains whether there is intrinsic IOCM value in the proposed work and/or relevance to national priorities and NOAA's strategic areas of focus (noted in section III), including downstream partner proposals and uses. It is recommended to make use of, and reference to, resources outlined in section III.

2. Statement of need (10 points)—This criterion assesses clarity of project need, partner project funding alternatives if not selected, anticipated outcomes, and public benefit.

3. Specified partner match (20 points)—This criterion evaluates the partner match, such as the identification of a point of contact for the entity submitting the proposal, as well as any partnering entities; a clear statement on partner matching funds provenance (e.g., State appropriations, NGO funds, or other sources); and timing of funds availability. Proposals with multiple partners that are combining funds for the match will need to identify a central point of contact who will work with the partners to collate the funds and initiate the transfer of funds to NOAA. In-kind contributions do not count toward the funding match, but are welcome to strengthen the proposal.

4. Project costs (15 points)—This criterion evaluates whether the proposed budget is realistic and commensurate with the proposed project needs and timeframe.

5. Project feasibility and flexibility (25 points)—This criterion assesses the likelihood that the proposal would succeed, using evaluations of survey conditions, project size, location, weather, NOAA analysis of environmental compliance implications, project flexibility and adaptability to existing NOAA plans and schedules, and other factors.

During the proposal review period, the Brennan Ocean Mapping Fund Program Management Team reserves the right to engage with proposal points of contact to ask questions and provide feedback on project costs and feasibility.

VI. Submission Requirements

Project Proposal—To qualify, a proposal shall not exceed six (6) total pages and must include the following three components:

1. A project title; executive summary (3-5 sentences); and the names, affiliations, and roles of the project partners and any co-investigators, as well as the project lead that will serve as primary contact (1 page maximum).

2. A justification and statement of need; description and graphics of the proposed survey area, including relevance to the strategic areas of focus noted in section III and degree of flexibility on timing of survey effort (4 pages maximum).

3. A project budget that lists the source(s) and amount(s) of funding that the partner would provide as its match to NOAA. The budget must confirm that partner funds can be transferred to NOAA before October 1, 2026 (1 page maximum).

Proposals must be sent in a PDF format, and use 12-point, Times New Roman font, single spacing, and 1-inch margins. Failure to adhere to these submission requirements will result in the proposal being returned without review and eliminated from further consideration.

To facilitate review, NOAA welcomes the submission of GIS files of project areas. These ancillary GIS files must be in SHP format.

Project proposals, including any optional GIS files of the proposed project areas, must be received via email at the email address listed in the ADDRESSES section by the deadline stated in the DATES section. Please include all required components of the proposal as attachments to one email. If an entity is unable to apply for this particular opportunity, but is interested in participating in similar, future opportunities, NOAA requests a one-page statement of interest, also by the deadline stated in the DATES section. Incomplete and late submissions will not be considered.

VII. Management and Oversight

Once the Brennan Ocean Mapping Fund Program Management Team selects project proposals, NOAA will coordinate the development of agreements, funding transfers, project planning, environmental compliance, acquisition awards, and the quality assurance process with the project partners. NOAA may bring in additional partners and/or funding (Federal and/or non-Federal) to expand a project, if feasible. Approved projects will be reviewed by NOAA annually to ensure they are responsive to partner interests and NOAA mission requirements.

Authority: 33 U.S.C. 883e; 33 U.S.C. 3504a, 3506.

RDML Benjamin K. Evans,
Director, Office of Coast Survey Acting Director, National Geodetic Survey National Ocean Service, National Oceanic and Atmospheric Administration.

[FR Doc. 2025-11107 Filed 6-16-25; 8:45 am]

BILLING CODE 3510-G1-P